SMALL BUSINESS ADMINISTRATION

[Declaration of Disaster #3305]

State of Arizona

As a result of the President's major disaster declaration on October 27, 2000, I find that La Paz and Maricopa Counties in the State of Arizona constitute a disaster area due to damages caused by severe storms and flooding beginning on October 21, 2000 and continuing. Applications for loans for physical damage as a result of this disaster may be filed until the close of business on December 26, 2000, and for loans for economic injury until the close of business on July 27, 2001 at the address listed below or other locally announced locations: U.S. Small Business Administration, Disaster Area 4 Office, P. O. Box 13795, Sacramento, CA 95853-4795.

In addition, applications for economic injury loans from small businesses located in the following contiguous counties may be filed until the specified date at the above location: Gila, Mohave, Pima, Pinal, Yavapai, and Yuma Counties in Arizona, and Imperial, Riverside, and San Bernardino Counties in California.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The number assigned to this disaster for physical damage is 330506. For economic injury the numbers are 9J4400 for Arizona and 9J4500 for California.

(Catalog of Federal Domestic Assistance Program Nos. 59002 and 59008)
Dated: November 2, 2000.
Allan I. Hoberman,
Acting Associate Administrator for Disaster Assistance.

[FR Doc. 00-29763 Filed 11-21-00; 8:45 am]

BILLING CODE 8025-01-P